DEPARTMENT OF ENERGY

Federal Energy Regulatory Commission

Notice of Commission Staff Attendance at the Southwest Power Pool, Inc. Meetings

The Federal Energy Regulatory Commission hereby gives notice that members of its staff may attend the following Southwest Power Pool-related meetings:

• Transmission Working Group

○ November 7, 1:00 p.m.-5:00 p.m.; November 8, 8:00 a.m.-12:00 p.m.

• Economic Studies Working Group

○ November 8, 1:00 p.m.-5:00 p.m.; November 9, 8:00 a.m.-12:00 p.m.

○ December 14, 8:00 a.m.-3:00 p.m.

• Market Working Group

○ November 14, 8:15 a.m.-6:00 p.m.; November 15, 8:15 a.m.-12:00 p.m.

○ December 11, 1:00 p.m.-6:00 p.m.; December 12, 8:15 a.m.-5:00 p.m.

• Cost Allocation Working Group

○ November 14, 8:30 a.m.-12:00 p.m., Call-in

○ December 5, 8:30 a.m.-2:00 p.m.

• Regional Tariff Working Group

○ November 16, 8:30 a.m.-2:30 p.m.

○ December 13, 8:30 a.m.-2:30 p.m.

• Corporate Governance Committee

○ November 28, 10:00 a.m.-3:00 p.m.

• Operating Reliability Working Group

○ December 7, 8:30 a.m.-12:00 p.m., Call-in

Unless otherwise noted, all of the meetings above will be held at either:

Little Rock, Southwest Power Pool Corporate Office Auditorium, 201 Worthen Drive, Little Rock, AR 72223

Dallas, Renaissance Tower—AEP Offices, 1201 Elm Street, Dallas, Texas 75202

Further information and dial in instructions may be found at https://spp.org/organizational-groups/. All meetings are Central Time.

The discussions may address matters at issue in the following proceedings:

Docket No. ER12-1179, Southwest Power Pool, Inc.

Docket No. ER15-1809, ATX Southwest, LLC

Docket No. ER15-2028, Southwest Power Pool, Inc.

Docket No. ER15-2115, Southwest Power Pool, Inc.

Docket No. ER15-2236, Midwest Power Transmission Arkansas, LLC

Docket No. ER15-2237, Kanstar Transmission, LLC

Docket No. ER15-2324, Southwest Power Pool, Inc.

Docket No. ER15-2594, South Central MCN LLC

Docket No. EL16-91, Southwest Power Pool, Inc.

Docket No. EL16-108, Tilton Energy v. Midcontinent Independent System Operator, Inc.

Docket No. EL16-110, Southwest Power Pool, Inc.

Docket No. ER16-204, Southwest Power Pool, Inc.

Docket No. ER16-209, Southwest Power Pool, Inc.

Docket No. ER16-791, Southwest Power Pool, Inc.

Docket No. ER16-829, Southwest Power Pool, Inc.

Docket No. ER16-1341, Southwest Power Pool, Inc.

Docket No. ER16-1546, Southwest Power Pool, Inc.

Docket No. ER16-2522, Southwest Power Pool, Inc.

Docket No. ER16-2523, Southwest Power Pool, Inc.

Docket No. EL17-11, Alabama Power Co. v. Southwest Power Pool, Inc.

Docket No. EL17-21, Kansas Electric Co. v. Southwest Power Pool, Inc.

Docket No. EL17-86, Nebraska Public Power District v. Southwest Power Pool, Inc.

Docket No. EL17-69, Buffalo Dunes et al. v. Southwest Power Pool, Inc.

Docket No. ER17-358, Southwest Power Pool, Inc.

Docket No. ER17-426, Southwest Power Pool, Inc.

Docket No. ER17-428, Southwest Power Pool, Inc.

Docket No. ER17-772, Southwest Power Pool, Inc.

Docket No. ER17-889, Southwest Power Pool, Inc.

Docket No. ER17-906, Southwest Power Pool, Inc.

Docket No. ER17-953, South Central MCN LLC

Docket No. ER17-1092, Southwest Power Pool, Inc.

Docket No. ER17-1107, Southwest Power Pool, Inc.

Docket No. ER17-1110, Southwest Power Pool, Inc.

Docket No. ER17-1140, Southwest Power Pool, Inc.

Docket No. ER17-1333, Southwest Power Pool, Inc.

Docket No. ER17-1379, Southwest Power Pool, Inc.

Docket No. ER17-1406, South Central MCN LLC

Docket No. ER17-1482, Southwest Power Pool, Inc.

Docket No. ER17-1568, Southwest Power Pool, Inc.

Docket No. ER17-1575, Southwest Power Pool, Inc.

Docket No. ER17-1643, Southwest Power Pool, Inc.

Docket No. ER17-1741, Southwest Power Pool, Inc.

Docket No. ER17-1795, Southwest Power Pool, Inc.

Docket No. ER17-1936, Southwest Power Pool, Inc.

Docket No. ER17-2027, Southwest Power Pool, Inc.

Docket No. ER17-2042, Southwest Power Pool, Inc.

Docket No. ER17-2256, Southwest Power Pool, Inc.

Docket No. ER17-2257, Southwest Power Pool, Inc.

Docket No. ER17-2229, Southwest Power Pool, Inc.

Docket No. ER17-2306, Southwest Power Pool, Inc.

Docket No. ER17-2312, Southwest Power Pool, Inc.

Docket No. ER17-2388, Southwest Power Pool, Inc.

Docket No. ER17-2441, Southwest Power Pool, Inc.

Docket No. ER17-2442, Southwest Power Pool, Inc.

Docket No. ER17-2454, Southwest Power Pool, Inc.

Docket No. ER17-2523, Southwest Power Pool, Inc.

Docket No. ER17-2537, Southwest Power Pool, Inc.

Docket No. ER17-2543, Southwest Power Pool, Inc.

Docket No. ER17-2563, Southwest Power Pool, Inc.

Docket No. ER17-2583, Southwest Power Pool, Inc.

Docket No. ER18-11, Southwest Power Pool, Inc.

Docket No. ER18-16, Southwest Power Pool, Inc.

Docket No. ER18-24, Southwest Power Pool, Inc.

Docket No. ER18-25, Southwest Power Pool, Inc.

Docket No. ER18-194, Southwest Power Pool, Inc.

Docket No. ER18-195, Southwest Power Pool, Inc.

Docket No. ER18-223, Southwest Power Pool, Inc.

Docket No. ER18-232, Southwest Power Pool, Inc.

Docket No. EL18-9-000, Xcel Energy Services, Inc. v. Southwest Power Pool, Inc.

Docket No. EL18-20-000, Indicated SPP Transmission Owners v. Southwest Power Pool, Inc.

Docket No. EL18-26-000, Indicated EDF Renewable Energy, Inc. v. Southwest Power Pool, Inc.

These meetings are open to the public.

For more information, contact Patrick Clarey, Office of Energy Market Regulation, Federal Energy Regulatory Commission at (317) 249-5937 or patrick.clarey@ferc.gov.

Dated: November 7, 2017.
Kimberly D. Bose,
Secretary.

[FR Doc. 2017-24583 Filed 11-13-17; 8:45 am]

BILLING CODE 6717-01-P